ENVIRONMENTAL PROTECTION AGENCY

[EPA-HQ-OPP-2009-1017; FRL-9926-88]

Product Cancellation Order for Certain Pesticide Registrations

AGENCY: Environmental Protection Agency (EPA).

ACTION: Notice.

SUMMARY: This notice announces EPA's order for the cancellations, voluntarily requested by the registrants and accepted by the Agency, of the products listed in Table 1 of Unit III., pursuant to the Federal Insecticide, Fungicide, and Rodenticide Act (FIFRA). Any distribution, sale, or use of the products subject to this cancellation order is permitted only in accordance with the terms of this order, including any existing stocks provisions.

DATES: The cancellations are effective June 3, 2015.

FOR FURTHER INFORMATION CONTACT: Joseph Nevola, Pesticide Re-Evaluation Division (7508P), Office of Pesticide Programs, Environmental Protection Agency, 1200 Pennsylvania Ave. NW., Washington, DC 20460-0001; telephone number: (703) 308-8037; email address: nevola.joseph@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2009-1017, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What is the agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request.

III. What action is the agency taking?

This notice announces the cancellation, as requested by registrants, of products registered under FIFRA section 3 (7 U.S.C. 136a). These registrations are listed in sequence by registration number in Table 1 of this unit.

Table 1—Product Cancellations
EPA Registration No. | Product name | Chemical name
000279-09556 | Intruder Residual Cylinder with Cyfluthrin | Piperonyl butoxide, Pyrethrins, and Cyfluthrin.
000769-00881 | Pratt 25-5 ULV Mosquito Adulticide Concentrate | Pyrethrins and Piperonyl butoxide.
002693-00214 | Micron Extra P-Blue | Tolylfluanid and Cuprous oxide.
002693-00215 | Ultra P-Blue | Cuprous oxide and Tolylfluanid.
002724-00779 | Permethrin Plus Home and Carpet Spray | Permethrin, MGK 264, and Pyriproxyfen.
004787-00043 | Malathion Technical | Malathion.
004787-00046 | Atrapa 8E | Malathion.
005382-00046 | Chlorite Plus CD-2 | Sodium chlorite.
005481-00350 | Metam Sodium | Metam sodium.
005481-00418 | Metam Sodium Soil Fumigant For All Crops | Metam sodium.
005481-00420 | AMVAC Metam | Metam sodium.
005481-00446 | Metacide 42 | Metam sodium.
007969-00081 | Pyramin DF Herbicide | Pyrazon.
007969-00108 | Pyramin Super Herbicide | Pyrazon.
010088-00097 | Insect Repellent Towel | MGK 264, MGK 326, and Diethyl toluamide.
010163-00174 | Fireban Fire Ant Insecticide | Phosmet.
010163-00224 | Ambush 0.5% Bait | Permethrin.
011603-00045 | Nitrapyrin Technical | Nitrapyrin.
021164-00003 | DURA KLOR | Sodium chlorite.
021164-00005 | AKTA KLOR 80 | Sodium chlorite.
035559-00002 | Diesel STA-BIL | 1,3,2-Dioxaborinane, 2,2'-((1-methyl-1,3-propanediyl) bis(oxy))bis(4-methyl- and 1,3,2-Dioxaborinane, 2,2'-oxybis(4,4,6-trimethyl-.
042750-00259 | Glufosinate-Ammonium TGAI | Glufosinate-Ammonium.
047158-00002 | Synergy 201 | Poly(oxy-1,2-ethanediyl(dimethylimino)-1,2-ethanediyl (dimethylimino)-1,2-ethanediyl dichloride).
059639-00028 | Orthene Tree and Ornamental Spray | Acephate.
059639-00086 | Orthene 90 WSP | Acephate.
059639-00089 | Orthene 75 WSP (Insecticide in a Water Soluble Bag). | Acephate.
062190-00028 | Chemonite Part B | Cuprous oxide.
065217-00001 | Biobor JF | 1,3,2-Dioxaborinane, 2,2'-((1-methyl-1,3-propanediyl) bis(oxy))bis(4-methyl- and 1,3,2-Dioxaborinane, 2,2'-oxybis(4,4,6-trimethyl-.
066222-00108 | Bromoxynil and Atrazine Herbicide | Atrazine and Bromoxynil octanoate.
066222-00119 | Bromoxynil 2EC Herbicide | Bromoxynil octanoate.
066222-00120 | Bromoxynil and MCPA Herbicide | MCPA, 2-ethylhexyl ester and Bromoxynil octanoate.
069361-00029 | Pendim Weed and Feed | Pendimethalin.
069361-00030 | Pendimethalin Technical | Pendimethalin.
069361-00031 | Pendim 3.3 EC Herbicide | Pendimethalin.
069361-00032 | Pendim H2O Herbicide | Pendimethalin.
069461-00002 | Revablue | Poly(oxy-1,2-ethanediyl(dimethylimino)-1,2-ethanediyl (dimethylimino)-1,2-ethanediyl dichloride).
071368-00070 | Bromoxynil Technical | Bromoxynil.
071368-00071 | Bromox Octanoic Acid Technical | Bromoxynil octanoate.
071995-00003 | Kleeraway Grass & Weed Killer 2 | Sodium acifluorfen and Glyphosate-isopropylammonium.
073801-00001 | Deltamethrin Technical | Deltamethrin.
073801-00003 | Sulfentrazone Technical | Sulfentrazone.
073801-00004 | Deltamethrin 4.75% SC | Deltamethrin.
089118-00001 | VCP-01 10WG | Bifenthrin.
CA-090010 | Ethrel Brand Ethephon Plant Regulator | Ethephon.
HI-840004 | AMCHEM Ethrel Pineapple Growth Regulator | Ethephon.
MA-090002 | B-CAP 35 Antimicrobial Agent | Hydrogen peroxide.
PA-080004 | B-CAP 50 Antimicrobial Agent | Hydrogen peroxide.

Table 2 of this unit includes the names and addresses of record for all registrants of the products in Table 1 of this unit, in sequence by EPA company number. This number corresponds to the first part of the EPA registration numbers of the products listed in Table 1 of this unit.

Table 2—Registrants of Cancelled Products
EPA company No. | Company name and address
279 | FMC Corp. Agricultural Products Group, 1735 Market Street, RM 1978, Philadelphia, PA 19103.
769 | Value Gardens Supply, LLC, Agent: AllPro Vector Group, 640 Griswold Street, Suite 200, Northville, MI 48167.
2693 | AkzoNobel, Agent: International Paint, LLC, 2270 Morris Ave., Union, NJ 07083.
2724 | Wellmark International, 1501 E. Woodfield Road, Suite 200 West, Schaumburg, IL 60173.
4787 | Cheminova A/S, Agent: Cheminova Inc., 1600 Wilson Blvd., Suite 700, Arlington, VA 22209.
5382, 21164 | Basic Chemicals Company, LLC, 5005 LBJ Freeway, Dallas, TX 75244.
5481 | AMVAC Chemical Corporation, 4695 MacArthur Court, Suite 1200, Newport Beach, CA 92660-1706.
7969 | BASF Corporation, 26 Davis Drive, P.O. Box 13528, Research Triangle Park, NC 27709-3528.
10088 | Athea Laboratories Inc., P.O. Box 240014, Milwaukee, WI 53224.
10163 | Gowan Company, P.O. Box 5569, Yuma, AZ 85366.
11603 | ADAMA, Agent: MANA, Inc., 3120 Highwoods Blvd, Suite 100, Raleigh, NC 27604.
35559 | Gold Eagle Co., Agent: Delta Analytical Corp., 12510 Prosperity Drive, Suite 160, Silver Spring, MD 20904.
42750 | Albaugh, LLC, P.O. Box 2127, Valdosta, GA 31604-2127.
47158 | Industrial Water Consulting, Inc., P.O. Box 36238, Indianapolis, IN 46236.
59639 | Valent U.S.A. Corporation, 1600 Riviera Avenue, Suite 200, Walnut Creek, CA 94596.
62190 | Arch Wood Protection, Inc., 360 Interstate North Parkway, Suite 450, Atlanta, GA 30339.
65217 | Hammonds Fuel Additives, Inc., Agent: Delta Analytical Corp., 12510 Prosperity Drive, Suite 160, Silver Spring, MD 20904.
66222 | Makhteshim Agan Of North America, Inc., 3120 Highwoods Blvd., Suite 100, Raleigh, NC 27604.
69361 | Repar Corporation, Agent: Mandava Associates, LLC, 1050 Conn. Ave. NW., Suite 1000, Washington, DC 20036.
69461 | Laboratoire Pareva, Agent: Technology Sciences Group Inc., 1150 18th Street NW., Suite 1000, Washington, DC 20036.
71368 | Nufarm Inc., Agent: Nufarm Americas, Inc., 4020 Aerial Center Parkway, Suite 101, Morrisville, NC 27560.
71995 | Monsanto Company, 1300 I Street NW., Suite 450 East, Washington, DC 20005.
73801 | Tagos Chemicals India, LTD., Agent: Biologic, Inc., 115 Obtuse Hill Road, Brookfield, CT 06804.
89118 | Vive CorpProtection, Inc., Agent: OMC Ag Consulting, 828 Tanglewood Ln., East Lansing, MI 48823.
CA-090010, HI-840004 | Bayer CropScience, LP, 2 T.W. Alexander Drive, P.O. Box 12014, Research Triangle Park, NC 27709.
MA-090002, PA-080004 | PeroxyChem, LLC, 2005 Market Street, Suite 3200, Philadelphia, PA 19103.

This cancellation order follows a notice of receipt of voluntary cancellation requests received from the registrants that issued in the Federal Register of March 12, 2015 (80 FR 12996) (FRL-9923-27). In the March 2015 document, EPA indicated that it would issue an order implementing the cancellations, unless the Agency received substantive comments within the 30-day comment period that would merit its further review of these requests, or unless the registrants withdrew their requests.

IV. Summary of Public Comments Received and Agency Response to Comments

The comment period closed on April 13, 2015. EPA received three comments. The comments agreed with the product cancellations. For this reason, the Agency does not believe that the comments submitted during the comment period merit further review or a denial of the requests for voluntary cancellation.

Further, the registrants did not withdraw their requests.

V. Cancellation Order

Pursuant to FIFRA section 6(f) (7 U.S.C. 136d(f)), EPA hereby approves the requested cancellations of the registrations identified in Table 1 of Unit III. Accordingly, the Agency hereby orders that the product registrations identified in Table 1 of Unit III. are canceled. The effective date of the cancellations that are the subject of this order is June 3, 2015. Any distribution, sale, or use of existing stocks of the products identified in Table 1 of Unit III. in a manner inconsistent with any of the provisions for disposition of existing stocks set forth in Unit VI. will be a violation of FIFRA.

VI. Provisions for Disposition of Existing Stocks

Existing stocks are those stocks of registered pesticide products which are currently in the United States and which were packaged, labeled, and released for shipment prior to the effective date of the cancellation action. The existing stocks provisions for the products subject to this order are as follows.

A. For Products (069361-00030, 073801-00003, and 089118-00001)

The registrants have indicated to the Agency via written response that there are no existing stocks because no production has ever occurred. Therefore, no existing stocks date is necessary. Registrants are prohibited from selling or distributing the existing stocks of products listed in Table 1 of Unit III., except for export consistent with FIFRA section 17 (7 U.S.C. 136o) or for proper disposal. In addition, because no production has ever occurred, persons other than the registrants are prohibited from selling, distributing, or using the existing stocks.

B. For the Product (010163-00174)

The registrant has indicated to the Agency via written response that they will not sell or distribute any existing stocks after December 31, 2014, and as of that date will no longer have any current stock. Therefore, no existing stocks date for the registrant is necessary. The registrant is prohibited from selling or distributing existing stocks of the product listed in Table 1 of Unit III., except for export consistent with FIFRA section 17 (7 U.S.C. 136o) or for proper disposal. Persons other than the registrant may sell, distribute, or use the existing stocks until such stocks are exhausted, provided that such sale, distribution, or use is consistent with the terms of the previously approved labeling on, or that accompanied, the canceled product.

C. For Products (059639-00028, 059639-00086, and 059639-00089)

Since the notice in the Federal Register of March 12, 2015 (80 FR 12996) (FRL-9923-27), EPA received clarification from the registrant which indicates that the manufacture and distribution for these products ended about 6 to 7 years ago. Therefore, no existing stocks date is necessary for the registrant. The registrant is prohibited from selling or distributing the existing stocks of products listed in Table 1 of Unit III., except for export consistent with FIFRA section 17 (7 U.S.C. 136o) or for proper disposal. In addition, because 6 to 7 years has passed, the Agency believes that existing stocks have been exhausted and no existing stocks date is necessary for persons other than the registrant. Persons other than the registrant are prohibited from selling, distributing, or using the existing stocks.

D. For All Other Products Identified in Table 1 of Unit III

The registrants may continue to sell and distribute existing stocks of products listed in Table 1 of Unit III. until June 2, 2016, which is 1 year after the publication of this Cancellation Order in the Federal Register. Thereafter, the registrants are prohibited from selling or distributing products listed in Table 1 of Unit III. except for export in accordance with FIFRA section 17 (7 U.S.C. 136o), or proper disposal. Persons other than the registrants may sell, distribute, or use existing stocks of products listed in Table 1 of Unit III. until existing stocks are exhausted, provided that such sale, distribution, or use is consistent with the terms of the previously approved labeling on, or that accompanied, the canceled products.

Authority: 7 U.S.C. 136 et seq.

Dated: May 14, 2015.
Richard P. Keigwin, Jr.,
Director, Pesticide Re-Evaluation Division, Office of Pesticide Programs.

[FR Doc. 2015-13513 Filed 6-2-15; 8:45 am]

BILLING CODE 6560-50-P